FEDERAL COMMUNICATIONS COMMISSION

[CG Docket No. 16-16; DA 16-761]

Termination of Dormant Proceedings

AGENCY: Federal Communications Commission.

ACTION: Notice.

SUMMARY: In this document, the Consumer and Governmental Affairs Bureau (CGB), terminates, as dormant, certain docketed Commission proceedings. The Commission believes that termination of these proceedings furthers the Commission's organizational goals of increasing the efficiency of its decision-making, modernizing the agency's processes in the digital age, and enhancing the openness and transparency of Commission proceedings for practitioners and the public.

DATES: Effective August 9, 2016.

FOR FURTHER INFORMATION CONTACT: Lauren Wilson, Consumer and Governmental Affairs Bureau at (202) 418-1607 or by email at lauren.wilson@fcc.gov.

SUPPLEMENTARY INFORMATION: This is a synopsis of the Commission's Order, Termination of Certain Proceedings as Dormant, document DA 16-761, adopted on July 21, 2016, and released on July 25, 2016 in CG Docket No. 16-16.

The full text of document DA 16-761 and copies of any subsequently filed documents in this matter will be available for public inspection and copying via ECFS, and during regular business hours at the FCC Reference Information Center, Portals II, 445 12th Street SW., Room CY-A257, Washington, DC 20554. Document DA 16-761 can also be downloaded in Word or Portable Document Format (PDF) at: https://apps.fcc.gov/edocs_public/attachmatch/DA-16-761A1.docx or https://apps.fcc.gov/edocs_public/attachmatch/DA-16-761A1.pdf. The spreadsheet associated with document DA 16-761 listing the proceedings proposed for termination for dormancy is available in Excel or Portable Document Format at: https://apps.fcc.gov/edocs_public/attachmatch/DA-16-761A2.xls or https://apps.fcc.gov/edocs_public/attachmatch/DA-6-761A2.pdf.

To request materials in accessible formats for people with disabilities (Braille, large print, electronic files, audio format), send an email to fcc504@fcc.gov or call the Consumer and Governmental Affairs Bureau at (202) 418-0530 (voice) or (202) 418-0432 (TTY).

Final Paperwork Reduction Act of 1995 Analysis

Document DA 16-761 does not contain information collection requirements subject to the Paperwork Reduction Act of 1995, Public Law 104-13. In addition, therefore, it does not contain any information collection burden for small business concerns with fewer than 25 employees, pursuant to the Small Business Paperwork Relief Act of 2002, Public Law 107-198, see 44 U.S.C. 3506(c)(4).

SYNOPSIS

1. In document DA 16-761, the Consumer and Governmental Affairs Bureau (CGB) terminates, as dormant, the proceedings listed on the Attachment hereto. CGB believes that termination of these proceedings furthers the Commission's organizational goals of increasing the efficiency of its decision-making, modernizing the agency's processes in the digital age, and enhancing the openness and transparency of Commission proceedings for practitioners and the public. In addition, on the basis of further evaluation, CGB leaves open two proceedings included in the Fifth Dormant Proceedings Termination Public Notice, published at 81 FR 26229, May 2, 2016, namely Amendment of the Commission's Rules Relating to Program Exclusivity in the Cable and Broadcast Industries, GN Docket No. 87-24, and Amendment of the Commission's Rules to Extend Its Network and Non-Network Territorial Exclusivity, Syndicated Exclusivity, and Network Non-Duplication Protection Rules, RM-10335.

2. On February 4, 2011, the Commission released a Report and Order that, inter alia, amended § 0.141 of the Commission's organizational rules to delegate authority to the Chief, CGB, to conduct periodic review of all open dockets with the objective of terminating those that were inactive. The Commission stated that termination of such proceedings also will include the dismissal as moot of any pending petition, motion, or other request for relief in the terminated proceeding that is procedural in nature or otherwise does not address the merits of the proceeding.

3. Following the release of the Procedure Order, published at 76 FR 24383, May 2, 2011, CGB, in consultation with the relevant other bureaus and offices, conducted a review of all open dockets and identified those dockets that could potentially be terminated. As a result of that process, CGB issued the First Dormant Proceedings Termination Public Notice, published at 76 FR 35892, June 20, 2011, listing the open dockets under consideration for termination, and providing interested parties the opportunity to file comments on these proposed terminations. Following these procedures, by Order released November 1, 2011, CGB terminated, as dormant the docketed proceedings listed in the attachment thereto. See 76 FR 70902, November 16, 2011. Further dormant proceeding terminations followed. See Second Dormant Proceedings Termination Order, published at 77 FR 60934, October 5, 2012; Third Dormant Proceedings Termination Order, published at 79 FR 58344, September 29, 2014; Fourth Dormant Proceedings Termination Order, published at 80 FR 4920, January 29, 2015.

4. Based on CGB's review of the record received in response to the Fifth Dormant Proceedings Termination Public Notice, it terminates the proceedings listed in document DA 16-761 and leaves open two proceedings that had been listed in Attachment A to the Fifth Dormant Proceedings Termination Public Notice. See https://apps.fcc.gov/edocs_public/attachmatch/DA-16-761A2.xls or https://apps.fcc.gov/edocs_public/attachmatch/DA-16-761A2.pdf. After review of the comment and CGB's further evaluation, it has determined that GN Docket No. 87-24 and RM-10335 will remain open and will not be terminated at this time.

5. Venture Technologies (GN Docket No. 87-24, RM-10335). Venture Technologies Group, LLC asks that GN Docket No. 87-24 (Amendment of the Commission's Rules Relating to Program Exclusivity in the Cable and Broadcast Industries) and RM-10335 (Amendment of the Commission's Rules to Extend Its Network and Non-Network Territorial Exclusivity, Syndicated Exclusivity, and Network Non-Duplication Protection Rules) remain open due to recent Commission consideration of the same rules that are the subject of these proceedings. The CGB find that further action in these proceeding may be required. Accordingly, we will not terminate GN Docket No. 87-24 and RM-10335 at this time and they will remain open.

6. Upon publication of document DA 16-761 in the Federal Register, these proceedings will be terminated in the Electronic Comment Filing System (ECFS). The record in the terminated proceedings will remain part of the Commission's official records, and the various pleadings, orders, and other documents in these dockets will continue to be accessible to the public, post-termination.

Regulatory Flexibility Act

7. The Commission's action does not require notice and comment and is not subject to the Regulatory Flexibility Act of 1980, as amended. See 5 U.S.C. 601(2), 603(a). The Commission nonetheless notes that it anticipates that the rules adopted will not have a significant economic impact on a substantial number of small entities. As described above, the Commission primarily changes its own internal procedures and organizations and does not impose substantive new responsibilities on regulated entities. There is no reason to believe termination of certain dormant proceedings would impose significant costs on parties to Commission proceedings. To the contrary, the Commission takes the actions herein with the expectation that overall they will make dealings with the Commission quicker, easier, and less costly for entities of all sizes.

Congressional Review Act

The Commission will not send a copy of document DA 16-761 pursuant to the Congressional Review Act, see 5 U.S.C. 801(a)(1)(A) because the Commission is not adopting, amending, revising, or deleting any rules.

Ordering Clauses

Pursuant to the authority contained in sections 4(i), and 4(j) of the Communications Act, 47 U.S.C. 154(i) and (j), and § 0.141 of the Commission's rules, that the proceedings set forth in document DA 16-761 are TERMINATED.

Federal Communications Commission.
D'wana Terry,
Associate Chief, Consumer and Governmental Affairs Bureau.

[FR Doc. 2016-18786 Filed 8-8-16; 8:45 am]

BILLING CODE 6712-01-P